FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Columbia River Logistics Services dba, Columbia River Logistics Services (COLO), 30900 Launch Land, Umatilla, OR 97882. Officers:Jeff Vandel, Vice President, (Qualifying Individual), Steve Miller, President.

Unicarga Int'l Freight Systems, Inc., 7901 NW 68th Street, Miami, FL 33166. Officers:Jorge M. Palacios, Secretary, (Qualifying Individual), Marcos A. Hernandez, President.

Ocean Freight Forwarder—Ocean Transportation Intermediary Applicants

Mados Systems Inc. dba Mados Shippers Consultants, 6886 S Yosemite Street, Centennial, CO 80112, Officers:Maxwell Nwokeukwu, Vice President, (Qualifying Individual), Akudo L. Nwokeukwu, President.

Dockside Management, Inc. dba Dockside International Forwarders, 8405 NW., 53rd Street, Miami, FL 33166. Officers:Gonzalo Torres, Jr., President, (Qualifying Individual), Clara M. Faya.

Grandiosa Enterprises, Inc., 58 Pyles Lane, Suite #300, New Castle, DE 19720, Officer:Daniel S. Cabellos, President, (Qualifying Individual).

Delphi Logistics, Corp. dba Delphi Logistics, 2023 N.W. 84th Ave., Suite 205, Miami, FL 33122. Officers:

Piedad D. Castrillon, Vice President, (Qualifying Individual), Alonso Silva, President.

Cargo Marine, 1810 Milby Street, Houston, TX 77003, Ziad H. Hajahmed, Sole Proprietor.

Dated: November 9, 2007.
Karen V. Gregory,
Assistant Secretary.

[FR Doc. E7-22356 Filed 11-14-07; 8:45 am]

BILLING CODE 6730-01-P